SECURITIES AND EXCHANGE COMMISSION

Proposed Collection; Comment Request

Upon Written Request, Copies Available From: Securities and Exchange Commission, Office of Investor Education and Advocacy, Washington, DC 20549-0213.

Extension:

Rule 30b1-6T, SEC File No. 270-599, OMB Control No. 3235-0652.

Notice is hereby given that pursuant to the Paperwork Reduction Act of 1995 (44 U.S.C. 3501 et seq.), the Securities and Exchange Commission (the “Commission”) is soliciting comments on the collection of information summarized below. The Commission plans to submit this existing collection of information to the Office of Management and Budget for extension and approval.

Rule 30b1-6T (17 CFR 270.30b1-6T) under the Investment Company Act of 1940 (the “Act”) is entitled: “Weekly Portfolio Report for Certain Money Market Funds.” The rule requires that if the market-based net asset value (“market-based NAV”) of a registered investment company, or series thereof, that is regulated as a money market fund under rule 2a-7 (17 CFR 270.2a-7) on any business day is less than $.9975 ¹ that money market fund must promptly notify the Securities and Exchange Commission (“Commission”) by electronic mail and provide a portfolio schedule to the Commission within one business day. Subsequently, the money market fund must submit a portfolio schedule within two business days after the end of each week until the fund's market-based NAV at the end of the week equals or exceeds $.9975. The portfolio schedule must be sent electronically in Microsoft Excel format. The purpose of the rule is to facilitate the Commission's oversight of money market funds and ensure that the Commission receives substantially similar information to that which it received from money market funds participating in the Treasury Department's Temporary Guarantee Program for Money Market Funds (“Guarantee Program”), which had guaranteed the $1.00 share value of accounts held by investors as of September 19, 2008 in participating money market funds.² The Guarantee Program was established to help stabilize money market funds following a period of substantial redemptions that threatened the ability of some money market funds to maintain the $1.00 share value.³ The program expired on September 18, 2009.

¹ Most money market funds seek to maintain a stable net asset value per share of $1.00, but a few seek to maintain a stable net asset value per share of a different amount, e.g., $10.00. For convenience, we generally refer to the stable net asset value of $1.00 per share.

² Our staff estimates that approximately 79 percent of money market funds participated in the Guarantee Program, and that the money market funds that did not participate in the program were mostly funds that invest predominately in U.S. Treasury and U.S. Government securities.

³ See Press Release, U.S. Department of the Treasury, Treasury Announces Guaranty Program for Money Market Funds (Sept. 19, 2008), available at http://www.treas.gov/press/releases/hp1147.htm.

Commission staff estimates estimate, based on past experience under the Guarantee Program, that 10 money market funds are required by rule 30b1-6T to provide weekly reports disclosing certain information regarding the fund's portfolio holdings. Staff estimates that money market funds require an average of approximately 6 burden hours to compile and electronically submit the initial required portfolio holdings information, and an average of approximately 4 burden hours in subsequent reports.⁴ Based on these estimates, we estimate that the annual burden will be 210 hours per money market fund that is required to provide the information and an aggregate annual burden of 2100 hours for all of the money market funds required to submit portfolio schedules.⁵

⁴ We understand that the required information is currently maintained by money market funds pursuant to other regulatory requirements or in the ordinary course of business. Accordingly, for the purposes of our analysis, we do not ascribe any time to gathering the required information.

⁵ Because one report is required each week, a fund would submit 52 reports in one year. The first report would require 6 hours and subsequent reports would require 4 hours each. The difference between the hours is due to the fact that funds generally would not incur the additional start-up time applicable to the first report. The annual burden of the reporting requirement would be 210 hours (1 report × 6 hours = 6 hours, 51 reports × 4 hours = 204 hours, and 6 hours + 204 hours = 210 hours). 210 hours × 10 (the estimated number of money market funds that will be required to submit portfolio schedules under the rule each year) = 2,100 hours.

The estimate of average burden hours is made solely for the purposes of the Paperwork Reduction Act, and is not derived from a comprehensive or even a representative survey or study of the costs of Commission rules. An agency may not conduct or sponsor, and a person is not required to respond to a collection of information unless it displays a currently valid control number. Compliance with rule 30b1-6T is mandatory for any money market fund whose market-based NAV is less than $.9975. Responses to the disclosure requirements will be kept confidential.

The Commission requests written comments on: (a) Whether the collections of information are necessary for the proper performance of the functions of the Commission, including whether the information has practical utility; (b) the accuracy of the Commission's estimate of the burdens of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Charles Boucher, Director/CIO, Securities and Exchange Commission, c/o Shirley Martinson, 6432 General Green Way, Alexandria, VA 22312; or send an e-mail to: PRA_Mailbox@sec.gov.

Dated: September 30, 2009.
Florence E. Harmon,
Deputy Secretary.

[FR Doc. E9-23995 Filed 10-5-09; 8:45 am]

BILLING CODE 8011-01-P